UNITED STATES INSTITUTE OF PEACE

Sunshine Act Meeting

Agency: United States Institute of Peace.

Date/Time: Thursday, March 16, 2000, 9:00 a.m.-5:30 p.m.

Location: 1200 17th Street, NW, Suite 200, Washington, DC 20036.

Status: Open Session—Portions may be closed pursuant to Subsection (c) of Section 552(b) of Title 5, United States Code, as provided in subsection 1706(h)(3) of the United States Institute of Peace Act, Public law 98-525.

Agenda: March 2000 Board Meeting; Approval of Minutes of the Ninety-Third Meeting (January 20, 2000) of the Board of Directors; Chairman's Report; President's Report; Committee Reports; Consideration of fellowship applications and individual Grants; Other General Issues.

Contact: Dr. Sheryl Brown, Director, Office of Communications, Telephone: (202) 457-1700.

Dated: March 1, 2000.
Charles E. Nelson,
Vice President for Management and Finance, United States Institute of Peace.

[FR Doc. 00-5421 Filed 3-1-00; 4:04 pm]

BILLING CODE 6820-AR-M